ENVIRONMENTAL PROTECTION AGENCY

[EPA-HQ-OW-2018-0618; FRL-10019-12-OW]

RIN 2040-ZA29

Effluent Guidelines Program Plan 14; Notice of Availability

AGENCY: Environmental Protection Agency (EPA).

ACTION: Notice of availability.

SUMMARY: This notice announces the availability of the Environmental Protection Agency's (EPA) Effluent Guidelines Program Plan 14 (Plan 14). EPA prepared Plan 14 pursuant to Clean Water Act (CWA) Section 304(m) as described in the SUPPLEMENTARY INFORMATION section. Plan 14 provides updates on activities discussed in Preliminary Effluent Guidelines Program Plan 14 (Preliminary Plan 14) and discusses comments that were received during the public comment period.

FOR FURTHER INFORMATION CONTACT: Dr. Phillip Flanders, Engineering and Analysis Division, Office of Water, 4303T, U.S. Environmental Protection Agency, 1200 Pennsylvania Avenue NW, Washington, DC 20460; telephone number: (202) 566-8323; fax number: (202) 566-1053; email address: flanders.phillip@epa.gov.

SUPPLEMENTARY INFORMATION:

I. General Information

A. The Effluent Guidelines Program Plan 14

Document and all supporting documents providing further details are available for review.

B. How can I get copies of these documents and other related information?

Docket. EPA has established an official public docket for these actions under Docket ID No. EPA-HQ-OW-2018-0618. The official public docket is the collection of materials that are available for public viewing at the Water Docket in EPA Docket Center, (EPA/DC) EPA West, Room 3334, 1301 Constitution Ave. NW, Washington, DC 20460.

Electronic Access. You can access this Federal Register document electronically through the United States Government online source for federal regulations at http://www.regulations.gov.

Internet access. Copies of the supporting documents are available at http://www.epa.gov/eg/effluent-guidelines-plan.

II. Notice of Availability

A. Legal Authority.

This notice is published under the authority of the CWA, 33 U.S.C. 1251, et seq., and in particular Sections 301(d), 304(b), 304(g), 304(m), 306, 307(b) and 308 of the Act, 33 U.S.C. 1311(d), 1314(b), 1314(g), 1314(m), 1316, 1317(b), and 1318.

B. Summary of Preliminary Effluent Guidelines Program Plan 14

EPA prepared Plan 14 pursuant to CWA Section 304(m). Effluent guidelines plans provide a summary of EPA's annual review of effluent guidelines and pretreatment standards, consistent with CWA Sections 301(d), 304(b), 304(g), 304(m), and 307(b). From these reviews, the plans identify any new or existing industrial categories selected for effluent guidelines or pretreatment standards rulemakings and provide a schedule for such rulemakings. In addition, the plans present any new or existing categories of industry selected for further review and analysis. Plan 14 provides updates on activities discussed in Preliminary Effluent Guidelines Program Plan 14 (Preliminary Plan 14) and discusses comments that were received during the public comment period.

EPA received 17 unique comment letters on Preliminary Plan 14. Commenters generally provided suggestions for improving certain analyses as well as comments for EPA to consider as it continues work on the detailed studies discussed in the Plan. EPA considered public comments and made revisions to clarify the final document, but did not change course on any substantive areas of ELG work as a result of public comments.

Plan 14 presents preliminary results from some new analyses and provides updates on EPA's reviews of industrial wastewater discharges and treatment technologies discussed in Preliminary Plan 14 including analyses of industrial sources and discharges of nutrients, proposed treatment technology reviews, and the effluent limitations guidelines database.

Plan 14 also provides updates on ongoing point source category studies, including EPA's decision to conclude the Petroleum Refining Category and planned next steps for the detailed study on the Electrical and Electronic Components Category. Plan 14 provides an update on the Pre- and Polyfluoroalkyl Substances (PFAS) Multi-Industry study, the scope of which includes organic chemical manufacturers, airports, rug and textile manufacturers, pulp and paper manufacturers, and the metal finishing point source category (added to the scope of the study after the Preliminary Plan 14 was published). Plan 14 discusses the types of information regarding PFAS that has been received to date, that EPA primarily received this information through outreach to stakeholders, and that EPA continues to evaluate this information to inform decisions about how best to address industrial PFAS discharges.

Finally, Plan 14 discusses several actions that are included in EPA's Fall Regulatory Agenda, including initiating an effort to evaluate the best available technology economically available limitations for two waste streams (landfill leachate and legacy wastewater) for the steam electric power generating point source category that were vacated in an April 2019 decision in U.S. Court of Appeals for the Fifth Circuit; and an advance notice of proposed rulemaking for the Organic Chemicals, Plastics, and Synthetic Fibers point source category to solicit additional information or data about PFAS manufacturers and formulators.

Plan 14 can be found at http://www.epa.gov/eg/effluent-guidelines-plan.

David P. Ross,
Assistant Administrator, Office of Water.

[FR Doc. 2021-00215 Filed 1-8-21; 8:45 am]

BILLING CODE 6560-50-P